DEPARTMENT OF AGRICULTURE

Forest Service

Helena National Forest; Montana; Blackfoot Travel Plan EIS

AGENCY: Forest Service, USDA.

ACTION: Notice of Intent to prepare an Environmental Impact Statement.

SUMMARY: The Helena National Forest is preparing an Environmental Impact Statement (EIS) to analyze the effects of proposed changes to the existing motorized public access routes and prohibitions within the Blackfoot travel planning area. Consistent with the Forest Service travel planning regulations, the resulting available public motorized access routes and areas would be designated on a Motor Vehicle Use Map (MVUM). Upon publishing the MVUM, public use of a motor vehicle other than in accordance with those designations would be prohibited.

DATES: Comments concerning the scope of the analysis must be received by November 29, 2010. The draft environmental impact statement is expected July 2011 and the final environmental impact statement is expected January 2012.

ADDRESSES: Send written comments to the Helena National Forest Lincoln Ranger District, 1569 Hwy 200, Lincoln, MT 59639. Comments may also be sent via e-mail to comments-northern-helena-lincoln@fs.fed.us, or via facsimile to 406-362-4253. Please indicate the name “Blackfoot Travel Plan” in the subject line of your e-mail.

FOR FURTHER INFORMATION CONTACT: Jaclyn Heinert, Interdisciplinary Team Leader (406) 362-7000 or e-mail jmheinert@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The overall objective of this proposal is to provide a manageable system of designated public motorized access routes and areas within the Blackfoot Travel area, consistent with and to achieve the purposes of Forest Service travel management regulations at 36 CFR 212 Subpart B. The existing system of available public motor vehicle routes and areas in the Blackfoot Travel area is the culmination of multiple agency decisions over recent decades. Public motor vehicle use of the majority of this available system continues to be manageable and consistent with the current travel management regulation. Exceptions have been identified, based on public input and the criteria listed at 36 CFR 212.55, and in these cases changes are proposed to meet the overall objectives. The decisions will ensure compliance with the Forest Plan and Interagency requirements for grizzly bear security and habitat within the recovery zone.

Proposed Action

The Helena National Forest proposes the following changes to the existing motorized public access routes and prohibitions within the Blackfoot travel planning area. Consistent with the travel planning regulations at 36 CFR 212 Subpart B, the resulting available public motorized access routes and areas would be designated on a Motor Vehicle Use Map and the prohibition at 36 CFR 261.13 would take effect. 36 CFR 261.13 would prohibit public use of a motor vehicle other than in accordance with those designations.

The proposed action would:

• Change 1.8 miles of currently closed yearlong routes or user-created routes to open with seasonal restrictions.

• Change 5.1 miles of seasonally restricted routes to having a different seasonal restriction.

• Change 6.7 miles of currently closed yearlong or user-created routes to being open yearlong.

• Change 9.4 miles of seasonally restricted routes to become open yearlong.

• Put 82.1 miles of currently open routes into storage (where routes are self-maintaining in non-use status for up to 20 years by re-contouring access points, and removing culverts).

• Change 2.5 miles of open seasonally or open yearlong routes to closed yearlong.

• Close 7.9 miles (estimated) of user-created routes.

• Create 41.4 miles of new motorized trails from currently seasonally restricted, open yearlong, user-created, and previously decommissioned routes.

• Create 1.5 miles of single-track motorized trail from currently double-track motorized trail.

• Construct 1.6 miles of new road.

• Place 65.5 miles of currently closed routes into storage.

• Place 82.1 miles of currently open routes into storage.

• Obliterate 8.1 miles of closed yearlong, open yearlong, or user-created routes.

• Create 5.5 miles of non-motorized trails from currently closed or user-created routes.

• Create 1.5 miles of non-motorized trails from currently open or seasonally restricted routes.

• Create 13.7 miles of non-motorized trails from currently single or double-track motorized routes.

• Create 33 miles of mountain bike trails on Forest Service land (may also include non-motorized or motorized uses).

Responsible Official

The Responsible Official is Kevin Riordan, Helena National Forest Supervisor.

Nature of Decision To Be Made

The decision to be made is whether to implement the proposed action or meet the purpose and need for action through some other alternative. He will consider the comments, disclosures of environmental consequences, and applicable laws, regulations, and policies in making the decision and stating the rationale in the Record of Decision.

Preliminary Issues

Public input from previous scoping processes, and through input gathered from collaboration identified several areas of particular interest to the public. Many comments spoke specifically to the Continental Divide National Scenic Trail, the Helmville-Gould trail, grizzly bear, elk, and bull trout habitat and conflicts with motorized and non-motorized uses. These topics generated the most public interest regarding motorized and non-motorized uses.

Scoping Process

This notice of intent initiates the scoping process, which guides the development of the environmental impact statement. It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered; however, anonymous comments will not provide the respondent with standing to participate in subsequent administrative review or judicial review.

Two opportunities to provide public comments in person will be provided. Staff members will be available on November 18 and November 30, 2010 from 4 p.m.-7 p.m. MDT at the Lincoln Ranger District, 1569 Hwy 200 Lincoln, Montana to visit with the public and discuss site-specific comments. If an individual, group or organization has any questions or would like to set up a meeting or field trip please contact Jaclyn Heinert at the Lincoln Ranger District of the Helena National Forest (406) 362-7000.

Dated: October 21, 2010.
Kevin Riordan,
Forest Supervisor.

[FR Doc. 2010-27353 Filed 10-28-10; 8:45 am]

BILLING CODE 3410-11-P